ENVIRONMENTAL PROTECTION AGENCY

[FRL-11056-01-OA]

Request for Nominations to the National Environmental Youth Advisory Council

AGENCY: Environmental Protection Agency (EPA).

ACTION: Notice of request for applications.

SUMMARY: The U.S. Environmental Protection Agency (EPA) invites applications from a diverse range of qualified candidates to be considered for appointment to the National Environmental Youth Advisory Council. Approximately sixteen vacancies are expected to be filled by December 2023. For appointment consideration, nominations should be submitted by August 22, 2023. Sources in addition to this Federal Register notice may also be utilized in the solicitation of nominees.

FOR FURTHER INFORMATION CONTACT: Carissa Cyran, Designated Federal Officer, Office of Public Engagement and Environmental Education, NEYAC@epa.gov, telephone 202-566-1353.

SUPPLEMENTARY INFORMATION:

Background: NEYAC is a federal advisory committee chartered under the Federal Advisory Committee Act, Public Law 92-463. NEYAC was created in 2023 by the United States Environmental Protection Agency's Office of Public Engagement and Environmental Education at the direction of the Administrator of EPA. Implementing authority was delegated to the Administrator of EPA. The NEYAC provides independent advice and recommendations to the Administrator of the Environmental Protection Agency (EPA) on how to increase EPA's efforts to address a range of environmental issues as they relate to youth communities, with an emphasis on communities with ages below 29 years of age. The NEYAC provides a critical perspective on how the impacts of climate change and other environmental harms affects youth communities. Members are appointed by the EPA Administrator for a two-year term. NEYAC expects to meet at least once annually and the average workload for committee members is approximately 10 to 15 hours per month. Members serve on the committee in a voluntary capacity. Although we are unable to offer compensation or an honorarium, members may receive travel and per diem allowances, according to applicable federal travel regulations and the agency's budget. To learn more about NEYAC, please visit https://www.epa.gov/education/national-environmental-youth-advisory-council-neyac.

The EPA is seeking nominations from a variety of sectors including but not limited to representatives from business and industry, academia, non-governmental organizations, and local, county, and tribal governments. According to the mandates of FACA, committees are required to support diversity across a broad range of constituencies, sectors, and groups.

In accordance with Executive Order 14035 (June 25, 2021) and consistent with law, EPA values and welcomes opportunities to increase diversity, equity, inclusion, and accessibility on its federal advisory committees. EPA's federal advisory committees strive to have a workforce that reflects the diversity of the American people.

The following criteria will be used to evaluate applicants:

• The NEYAC will be composed of approximately (16) members who will generally serve as Representative members of non-federal interests appointed by the Administrator of EPA.

• Members will serve as Representatives and will be between the ages of 16 and 29 but may surpass 29 years of age if the length of their term overlaps with a corresponding birthday; however, they would not be able to be reappointed if their age exceeds 29 years of age. Members must be 16 years of age by the time of their appointment.

• In selecting members, EPA will consider candidates from business and industry, academic institutions, state, local and tribal governments, public interest groups, environmental organizations, service groups, and more. In determining a fair spread across categories, no more than 60% of the advisory committee can come from a single categorical entity.

• At least 50% of the overall membership of the NEYAC should either come from, reside primarily in, and/or do most of their work in disadvantaged communities as defined by the Climate and Economic Justice Screening Tool (CEJST) as part of the Justice40 Initiative.

• Members must demonstrate notable commitment to environmental issues with extensive involvement, knowledge, or engagement with relevant material and/or affected communities.

• Members must demonstrate an ability to work in a consensus building process with a wide range of representative from diverse constituencies.

• Members must be able to contribute approximately 10 to 15 hours per month to NEYAC's activities, including the attendance at meetings and participating in the development of advice letters/reports and other material.

• Members must demonstrate potential for active and constructive involvement in NEYAC's work.

How to Submit Applications: Any interested person or organization may apply to be considered for an appointment to serve on the National Environmental Youth Advisory Council.

• Applications must include:

○ (1) contact information as outlined below:

Applicants must provide their: full legal name, preferred name if applicable, pronouns, date of birth, current home address, and phone number.

If under 18, the Agency will contact applicants for additional information to obtain proof of age.

○ (2) resume or curriculum vitae (CV) OR a short biography describing professional and/or educational qualifications or experiences, including but not limited to a list of relevant activities/clubs/volunteering/community projects/etc. as well as any current or previous service on advisory committees OR a 2-page single spaced (font size 12, 1-inch margins) maximum essay on qualifications

○ (3) statement of interest explaining why you would like to serve on this committee:

The statement of interest should describe how the nominee's background, knowledge, and experience would add value to the committee's work, and how the individual's qualifications would contribute to the overall diversity of the NEYAC. To help the Agency in evaluating the effectiveness of its outreach efforts, please include in the statement of interest how you learned of this opportunity.

○ (4) a media project that can take the form of any ONE of the below options. The media project must share more about the applicant's viewpoint on the intersection between youth communities and environmental issues, including a focus on an urgent environmental or climate issue and its specific impact on youth communities.

Media projects containing audio and/or video must be shared via a link (e.g., Google Drive, SharePoint, etc.) and can NOT be included as an attachment. The link should lead to a downloadable copy.

A 2-page single-spaced 1-inch margin essay.

A 2-page single-spaced 1-inch margin letter to the editor.

A 2-page single-spaced 1-inch margin blog post.

A 2-minute video.

A 2-minute podcast.

8″ x 11″ or smaller piece of artwork as a scanned copy.

3-minute song.

Please be aware that EPA's policy is that, unless otherwise prescribed by statute, members generally are appointed for a two-year term. For appointment consideration, interested nominees should submit the application materials electronically via email to Carissa Cyran at NEYAC@epa.gov with the subject line NEYAC, COMMITTEE APPLICATION PACKAGE 2023 for (Name of Nominee) by August 22, 2023.

Kathryn Avivah Jakob,
Director, Office of Public Engagement, Office of Public Engagement and Environmental Education, Office of the Administrator.

[FR Doc. 2023-13216 Filed 6-21-23; 8:45 am]

BILLING CODE 6560-50-P